AGENCY FOR INTERNATIONAL DEVELOPMENT

Renewal of the Advisory Committee on Voluntary Foreign Aid

AGENCY: United States Agency for International Development.

ACTION: Notice of renewal of advisory committee.

SUMMARY: Pursuant to the Federal Advisory Committee Act, the Administrator has determined that renewal of the Advisory Committee on Voluntary Foreign Aid for a two-year period, beginning January 21, 2001, is necessary and in the public interest.

FOR FURTHER INFORMATION CONTACT: Noreen O'Meara, (202) 712-5979.

Dated: January 2, 2001.
Noreen O'Meara,
Director, Advisory Committee on Voluntary Foreign Aid (ACVFA).

[FR Doc. 01-3721 Filed 2-13-01; 8:45 am]

BILLING CODE 6116-01-M